FEDERAL COMMUNICATIONS COMMISSION

47 CFR Part 73

[DA 05-757; MB Docket No. 05-145, RM-11212; MB Docket No. 05-146, RM-11213]

Radio Broadcasting Services; Caliente and Moapa, NV; and Hermitage and Mercer, PA

AGENCY: Federal Communications Commission.

ACTION: Proposed rule.

SUMMARY: This document proposes two change of community reallotments for Caliente and Moapa, Nevada; and Mercer and Hermitage, Pennsylvania.

The Audio Division requests comments on a petition filed by Cumulus Licensing LLC, proposing the reallotment of Channel 233C from Caliente to Moapa, Nevada, and the modification of the new FM station's construction permit (File No. BNH-20050103AFD) accordingly. Channel 233C can be reallotted to Moapa in compliance with the Commission's minimum distance separation requirements with a site restriction of 63.0 kilometers (39.2 miles) north at Petitioner's authorized construction permit site. The coordinates for Channel 233C at Moapa are 37-14-37 NL and 114-36-01 WL. In accordance with the provisions of Section 1.420(i) of the Commission's Rules, we will not accept competing expressions of interest for the use of Channel 233C at Moapa, Nevada, or require Petitioner to demonstrate the existence of an equivalent class channel for the use of other interested parties. See Supplementary Information, infra.

DATES: Comments must be filed on or before May 10, 2005, reply comments on or before May 25, 2005.

ADDRESSES: Federal Communications Commission, Washington, DC 20554. In addition to filing comments with the FCC, interested parties should serve the petitioner, or its counsel or consultant, as follows: Marnie K. Sarver, Esq., Wiley, Rein & Fielding LLP, 1776 K Street, NW., Washington, DC 10006 (Counsel for Aurora Media, LLC) and Mark N. Lipp, Esq., Vinson and Elkins, L.L.P., 1455 Pennsylvania Ave., NW., Suite 600, Washington, DC 20004-1008 (Counsel for Cumulus Licensing LLC).

FOR FURTHER INFORMATION CONTACT: Sharon P. McDonald, Media Bureau, (202) 418-2180.

SUPPLEMENTARY INFORMATION: This is a synopsis of the Commission's Notice of Proposed Rule Making, MB Docket No. 05-145 and MB Docket No. 05-146, adopted March 21, 2005, and released March 23, 2005. The full text of this Commission decision is available for inspection and copying during normal business hours in the FCC Reference Information Center (Room CY-A257), 445 12th Street, SW., Washington, DC. This document may also be purchased from the Commission's copy contractor, Best Copy and Printing, Inc., Portals II, 445 12th Street, SW., Room CY-B402, Washington, DC 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The Audio Division requests comments on a petition filed by Cumulus Licensing, LLC, proposing the reallotment of Channel 280A from Mercer to Hermitage, Pennsylvania, and the modification of Station WWIZ(FM)'s license accordingly. Channel 280A can be reallotted to Hermitage in compliance with the Commission's minimum distance separation requirements with a site restriction of 7.8 kilometers (4.9 miles) southeast to avoid a short-spacing to the licensed and construction permit site for Station WOGF(FM), Channel 282B, East Liverpool, Ohio. The reference coordinates for Channel 280A at Hermitage are 41-12-16 NL and 80-21-49 WL. Since Hermitage is located within 320 kilometers (200 miles) of the U.S-Canadian border, concurrence of the Canadian government has been requested. In addition, this allotment is short-spaced to vacant Channel 280C1 in Woodstock, Ontario, and we have requested Canadian concurrence of Channel 280A at Hermitage, Pennsylvania, as a specially-negotiated, short-spaced allotment. In accordance with the provisions of Section 1.420(i) of the Commission's Rules, we will accept competing expressions of interest for the use of Channel 280A at Hermitage, Pennsylvania, or require Petitioner to demonstrate the existence of an equivalent class channel for the use of other interested parties.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts. For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for Part 73 continues to read as follows:

Authority: 47 U.S.C. 154, 303, 334 and 336.

§ 73.202 [Amended]

2. Section 73.202(b), the Table of FM Allotments under Nevada, is amended by removing Channel 233C1 at Caliente, and adding Moapa, Channel 233C.

3. Section 73.202(b), the Table of FM Allotments under Pennsylvania, is amended by removing Channel 280A at Mercer, and adding Hermitage, Channel 280A.

Federal Communications Commission.
John A. Karousos,
Assistant Chief, Audio Division, Media Bureau.

[FR Doc. 05-7081 Filed 4-12-05; 8:45 am]

BILLING CODE 6712-01-P